POSTAL SERVICE

Sunshine Act Meetings

TIME AND DATE: Wednesday, November 13, 2024, at 9:00 a.m.; Thursday, November 14, 2024, at 10:00 a.m.

PLACE: Washington, DC, at U.S. Postal Service Headquarters, 475 L'Enfant Plaza SW, in the Benjamin Franklin Room.

STATUS: Wednesday, November 13, 2024, at 9:00 a.m.—Closed. Thursday, November 14, 2024, at 10:00 a.m.—Open.

MATTERS TO BE CONSIDERED:

Meeting of the Board of Governors

Wednesday, November 13, 2024, at 9:00 a.m. (Closed)

1. Strategic Matters.

2. Financial and Operational Matters.

3. Executive Session.

4. Compensation and Personnel Matters.

5. Administrative Items.

Thursday, November 14, 2024, at 10:00 a.m. (Open)

1. Remarks of the Chairman of the Board of Governors.

2. Remarks of the Postmaster General and CEO.

3. Approval of the Minutes.

4. Election of the Chairman.

5. Election of the Vice Chairman.

6. Committee Reports.

7. Financial Matters.

a. FY2024 Annual Financial Report.

b. FY2024 10K and Financial Statements.

c. Annual Report to Congress.

d. FY2025 Integrated Financial Plan and Liquidity Outlook.

e. Authorization to Borrow Money and Issue Obligations.

f. FY2026 Congressional Reimbursement Request.

8. Annual Service Performance Report.

9. Approval of Tentative Agenda for the February 7, 2025 Meeting.

10. Adjournment

A public comment period will begin immediately following the adjournment of the open session on November 14, 2024. During the public comment period, members of the public present at the meeting, or who have previously registered to participate virtually, may comment on any item or subject listed on the agenda for the open session. Registration of speakers at the public comment period is required. Speakers must register online at https://www.surveymonkey.com/r/bog-11-14-2024. Each registered speaker will be allowed two (2) minutes for comment. Registration to speak during the public comment period shall end on November 12, 2024, at 9 a.m. ET. Participation in the public comment period is governed by 39 CFR 232.1(n).

CONTACT PERSON FOR MORE INFORMATION: Michael J. Elston, Secretary of the Board, U.S. Postal Service, 475 L'Enfant Plaza SW, Washington, DC 20260-1000. Telephone: (202) 268-4800.

Michael J. Elston,
Secretary.

[FR Doc. 2024-25716 Filed 10-31-24; 4:15 pm]

BILLING CODE 7710-12-P